FEDERAL RETIREMENT THRIFT INVESTMENT BOARD

Sunshine Act; Notice of Meeting

Time and Date: 9 a.m. (Eastern Time), October 20, 2008.

Place: 4th Floor Conference Room, 1250 H Street, NW., Washington, DC 20005.

Status: Parts will be open to the public and parts closed to the public.

Matters To Be Considered:

Parts Open to the Public

1. Approval of the minutes of the September 15, 2008 Board member meeting.

2. Thrift Savings Plan activity report by the Executive Director.

a. Monthly Participant Activity Report.

b. Legislative Report.

3. Quarterly Reports.

a. Investment Policy Review.

b. Vendor Financial Reports.

4. Mid-Year Financial Audit.

Parts Closed to the Public

5. Procurement.

6. Confidential Financial Information.

Contact Person For More Information:

Thomas J. Trabucco, Director, Office of External Affairs, (202) 942-1640.

Dated: October 9, 2008.
Thomas K. Emswiler,
Secretary, Federal Retirement Thrift Investment Board.

[FR Doc. E8-24571 Filed 10-10-08; 4:15 pm]

BILLING CODE 6760-01-P